DEPARTMENT OF TRANSPORTATION

Federal Aviation Administration

Notice of Passenger Facility Charge (PFC) Approvals and Disapprovals

AGENCY: Federal Aviation Administration (FAA), DOT.

ACTION: Monthly Notice of PFC Approvals and Disapprovals. In June 2004, there were 13 applications approved. This notice also includes information on three applications, approved in May 2004, inadvertently left off the May 2004 notice. Additionally, eight approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and part 158 of the Federal Aviation Regulations (14 CFR part 158). This notice is published pursuant to paragraph d of § 158.29.

PFC Applications Approved

Public Agency: Burbank-Glendale-Pasadena Airport Authority, Burbank, California.

Application Number: 04-06-C-BUR.

Application Type: Impose and use a PFC.

PFC Level: $4.50.

Total PFC Revenue Approved in This Decision: $4,417,000.

Earliest Charge Effective Date: March 1, 2010.

Estimated Charge Expiration Date: July 1, 2010.

Class of Air Carriers not Required to Collect PFC's: Nonscheduled/demand air carriers filing FAA Form 1800-31.

Determination: Approved. Based on information contained in the public agency's application, the FAA has determined that the proposed class accounts for less than 1 percent of the total annual enplanements at Bob Hope Airport.

Brief Description of Projects Approved for Collection and Use at a $4.50 PFC Level:

Aircraft rescue and firefighting truck.

Engineered material arresting system.

Runway protection zone land acquisition.

Luther Burbank Middle School acoustical treatment.

Hangar 3 obstruction removal.

Runway/service road rehabilitation.

Airfield lighting rehabilitation.

Brief Description of Projects Approved for Collection and Use at a #$3.00 PFC Level:

Friction measuring device.

Terminal road paving.

Brief Description of Disapproved Project: Noise map geographic information system database.

Determination: As a stand-alone project, this geographic information system does not meet the requirements of § 158.15(a) and /or § 158.17(b).

Decision Date: May 27, 2004.

Fro Further Information Contact: Ruben Cabalbag, Western Pacific Region Airports Division, (310) 725-3621.

Public Agency: City of Fort Collins and City of Loveland, Colorado.

Application Number: 04-03-C-00-FNL.

Application Type: Impose and use a PFC.

PFC Level: $4.50.

Total PFC Revenue Approved in This Decision: $75,778.

Earliest Charge Effective Date: August 1, 2004.

Estimated Charge Expiration Date: October 1, 2005.

Class of Air Carriers Not Required to Collect PFC's: None.

Brief Description of Projects Approved for Collection and Use:

South ramp rehabilitation.

Snow removal equipment building design.

Master plan.

Decision Date: May 28, 2004.

For Further Information Contact: Christopher Schaffer, Denver Airports District Office, (303) 342-1258.

Public Agency: Jackson County Airport Authority, Medford, Oregon.

Application Number: 04-09-C-00-MFR.

Application Type: Impose and use a PFC.

PFC Level: $4.50.

Total PFC Revenue Approved in This Decision: $27,542,553.

Earliest Charge Effective Date: September 1, 2004.

Estimated Charge Expiration Date: August 1, 2025.

Class of Air Carriers Not Required to Collect PFC's:

Operations by air taxi/commercial operators when enplaning revenue passengers in limited, irregular, special service air taxi/commercial operations such as air ambulance services, student instruction, non-stop sightseeing flights that begin and end at the airport and are concluded within a 25-mile radius of the airport.

Determination: Approved. Based on information contained in the public agency's application, the FAA has determined that the proposed class accounts for less than 1 percent of the total annual enplanements at Rogue Valley International—Medford Airport.

Brief Description of Projects Approved for Collection and Use:

Terminal building and area.

Taxiways B, B2 and B3 rehabilitation.

Decision Date: May 28, 2004.

For Further Information Contact: Suzanne Lee-Pang, Seattle Airports District Office, (425) 227-2654.

Public Agency: City of La Crosse, Wisconsin.

Application Number: 04-07-C-00-LSE.

Application type: Impose and use a PFC.

PFC Level: $4.50.

Total PFC Revenue Approved in This Decision: $1,513,997.

Earliest Charge Effective Date: May 1, 2005.

Estimated Charge Expiration Date: December 1, 2008.

Classes of Air Carriers Not Required to Collect PFC's: None.

Brief Description of Projects Approved for Collection and Use:

Reconstruct taxiway B and east apron.

Airfield electrical improvements.

Aircraft rescue and firefighting truck.

Acquire snow removal equipment.

Taxiways G, H, and F reconstruction.

PFC administration.

Decision Date: June 1, 2004.

For Further Information Contact: Sandra E. DePottey, Minneapolis Airports District Office, (612) 713-4363.

Public Agency: City of Des Moines, Iowa.

Application Number: 03-06-C-00-DSM.

Application Type: Impose and use a PFC.

PFC Level: $4.50.

Total PFC Revenue Approved in This Decision: $8,543,039.

Earliest Charge Effective Date: March 1, 2005.

Estimated Charge Expiration Date: April 1, 2008.

Classes of Air Carriers Not Required to Collect PFC's: Part 135 air taxi/commercial operators.

Determination: Approved. Based on information contained in the public agency's application, the FAA has determined that the proposed class accounts for less than 1 percent of the total annual enplanements at Des Moines International Airport.

Brief Description of Projects Approved for Collection and Use:

Glycol tank storage area.

Passenger loading bridges.

Passenger terminal fire suppression system.

Passenger terminal stern expansion.

Passenger terminal paging system.

Decision Date: June 10, 2004.

For Further Information Contact: Nicoletta S. Oliver, Central Region Airports Division, (816) 329-2642.

Public Agency: City of Presque Isle, Maine.

Application Number: 04-01-C-00-PQI.

Application Type: Impose and use a PFC.

PFC Level: $4.50.

Total PFC Revenue Approved in This Decision: $245,893.

Earliest Charge Effective Date: September 1, 2004.

Estimated Charge Expiration Date: September 1, 2007.

Class of Air Carriers Not Required to Collect PFC'S: Non-scheduled/on-demand air taxi/commercial operators.

Determination: Approved. Based on information contained in the public agency's application, the FAA has determined that the proposed class accounts for less than 1 percent of the total annual enplanements at Northern Maine Regional Airport.

Brief Description of Projects Approved for Collection and Use:

Airport master plan.

PFC application.

Design only for rehabilitation of taxiway C.

Design only for rehabilitation of a portion of taxiway N.

Design only for rehabilitation and expansion of main terminal apron.

Design only for rehabilitation of taxiways A and B intersection.

Preparation of Mained Department of Environmental Protection site location permit application.

Design only for rehabilitation of runway 1/19.

Design only for improvements to runway safety areas.

Design only for replacement of high intensity runway lights.

Rehabilitation of taxiway C.

Rehabilitation of a portion of taxiway N.

Rehabilitation and expansion of main terminal apron.

Rehabilitation of taxiways A and B intersection.

Acquire snow removal equipment.

Acquire aircraft rescue and firefighting vehicle.

Acquisition of snow removal equipment to include one wheeled loader and one 10-wheel dump truck with dump body.

Installation of airfield signs.

Installation of communications equipment.

Acquire property interest in approach to runway 19 and remove obstructions.

Construct terminal ramp improvements.

Construct ramp equipment storage building.

Construct aircraft rescue and firefighting and snow removal equipment building.

Airport sign and guidance system plan.

Decision Date: June 10, 2004.

For Further Information Contact: Priscillar Scott, New England Region Airports Division, (781) 238-7614.

Public Agency: Hualapai Indian Tribe, Peach Springs, Arizona.

Application Number: 04-01-C-00-1G4.

Application Type: Impose and use a PFC.

PFC Level: $3.00.

Total PFC Revenue Approved in This Decision: $308,210.

Earliest Charge Effective Date: September 1, 2004.

Estimated Charge Expiration Date: September 1, 2006.

Class of Air Carriers Not Required to Collect PFC'S: None.

Brief Description of Projects Approved for Collection and Use:

Design and reconstruct the primary runway.

Design and construct parallel taxiway and associated connector taxiways.

Design and construct aircraft parking apron.

Design and construct access road.

Design new terminal building including utilities.

Decision Date: June 14, 2004.

For Further Information Contact: Mickael Agaibi, Wester Pacific Region Airports Division, (310) 725-3611.

Public Agency: Gunnison County, Gunnison, Colorado.

Application Number: 04-04-C-00-GUC.

Apllication Type: Impose and use a PFC.

PFC Level: $4.50.

Total PFC Revenue Approved in This Decision: $2,278,137.

Earliest Charge Effective Date: September 1, 2004.

Estimated Charge Expiration Date: June 1, 2014.

Classes of Air Carriers Not Required to Collect PFC'S: None.

Brief Description of Projects Approved for Collection and Use at a $4.50 PFC Level:

Runway rehabilitation and shift.

Gold Basin Road relocation.

Taxiway rehabilitation.

Construct aircraft resue and firefighting/snow removal equipment building.

Acquire snow removal equipment.

Terminal area study/terminal design.

Security enhancement.

Decision Date: June 17, 2004.

For Further Information Contact: Chris Schaffer, Denver Airports District Office, (303) 342-1258.

Public Agency: State of Hawaii.

Applications Number: 04-01-C-00-HNL; 04-01-C-00-OGG; 04-01-C-KOA; and 04-01-C-00-LIH.

Application Type: Impose and use a PFC.

PFC Level: $3.00.

Total PFC Revenue Approved in This Decision: $42,632,466 ($32,296,466 at Honolulu International Airport (HNL); $8,950,000 at Kahalui Airport (OGG); $1,065,000 at Kona International at Keahole Airport (KOA); and $321,000 at Lihue Airport (LIH)).

Earliest Charge Effective Date at Each Airport: October 1, 2004.

Estimated Charge Expiration Date at Each Airport: February 1, 2007.

Classes of Air Carriers Not Required to Collect PFC's: None.

Brief Description of Projects Approved for Collection at HNL, OGG, KOA, and LIH and Use at HNL:

Flight information display and public address system improvements.

Air conditioning system improvements.

Environmental compliance measures (south ramp)

Brief Description of Projects Approved for Collection at HNL, OGG, KOA, and LIH and Use at OGG:

Runway safety area improvements.

Perimeter road improvements and fencing.

Brief Description of Project Approved for Collection at HNL, OGG, KOA, and LIH and Use at KOA: Perimeter road improvements, fencing, and general aviation apron lighting.

Brief Description of Projects Approved for Collection at HNL, OGG, KOA, and LIH and Use at LIH: Perimeter road improvements and fencing.

Decision Date: June 17, 2004.

For Further Information Contact: Steven Y. Wong, Honolulu airports District Office, (808) 541-1225.

Public Agency: City of Chicago, Department of Aviation, Chicago, Illinois.

Application Number: 04-16-C-00-ORD.

Application Type: Impose and use a PFC.

PFC Level: $4.50.

Total PFC Revenue Approved in This Decision: $37,000,000.

Earliest Charge Effective Date: April 1, 2018

Estimated Charge Expiration Date: September 1, 2018.

Classes of Air Carriers Not Required to Collect PFC'S: Air taxi.

Determination: Approved. Based on information contained in the public agency's application, the FAA has determined that the proposed class accounts for less than 1 percent of the total annual enplanements at Chicago O'Hare International Airport.

Brief Description of Projects Approved for Collection and Use:

2004 residential insulation.

2004 school insulation.

Decision Date: June 17, 2004.

For Further Information Contact: Thomas E. Salaman, Chicago Airports District Office, (847) 294-7436.

Public Agency: City of Rhinelander and Qneida County, Rhinelander, Wisconsin.

Application Number: 04-08-C-00-RHI.

Application Type: Impose and use a PFC.

PFC Level: $4.50.

Total PFC Revenue Approved in This Decision: $200,936.

Earliest Charge Effective Date: January 1, 2005.

Estimated Charge Expiration Date: April 1, 2006.

Classes of Air Carriers Not Required to Collect PFC'S: Part 135 air taxi/commercial operators filing FAA Form 1800-31.

Determination: Approved. Based on information contained in the public agency's application, the FAA has determined that the proposed class accounts for less than 1 percent of the total annual enplanements at Rhinelander-Qneida County Airport.

Brief Description of Projects Approved for Collection and Use:

Acquire snow removal equipment.

Replace aircraft rescue and firefighting building overhead door.

Painting/marking runway 9/27.

Wildlife fencing, habitat modification, and bird hazard reduction equipment.

Environmental assessment of parallel taxiway for runway 15/33.

Land acquisition.

Master planning updates.

Replace airport beacon.

Design reconstruction of runway 15/33.

Reconstruction of runway 15/33.

Replace runway end identifier lights on runway 15.

Design and reconstruction/construction of general aviation apron and taxiway.

PFC administration.

Decision Date: June 18, 2004.

For Further Information Contact: Daniel J. Millenacker, Minneapolis Airports District Office, (612) 713-4350.

Public Agency: Central West Virginia Regional Airport Authority, Charleston, West Virginia.

Application Number: 04-10-U-00-CRW.

Application Type: Use PFC revenue.

PFC Level: $4.50.

Total PFC Revenue Approved in This Decision: $912,500.

Charge Effective Date: August 1, 2002.

Estimated Charge Expiration Date: April 1, 2003.

Class of Air Carriers Not Required to Collect PFC'S: No change from previous decision.

Brief Description of Projects Approved for Use: Runway safety area enhancement—taxiway A relocation.

Decision Date: June 21, 2004.

For Further Information Contact: Larry F. Clark, Beckley Airports District Office, (304) 252-6216.

Public Agency: Lawton Metropolitan Area Airport Authority, Lawton, Oklahoma.

Application Number: 04-04-C-00-LAW.

Application Type: Impose and use a PFC.

PFC Level: $4.50.

Total PFC Revenue Approved in This Decision: $253,021.

Earliest Charge Effective Date: September 1, 2004.

Estimated Charge Expiration Date: September 1, 2007.

Classes of Air Carriers Not Required to Collect PFC's: Part 135 air taxi/commercial operators filing FAA Form 1800-31.

Determination: Approved. Based on information contained in the public agency's application, the FAA has determined that the proposed class accounts for less than 1 percent of the total annual enplanements at Lawton-Fort Sill Regional Airport.

Brief Description of Projects Approved for Collection and Use:

Rehabilitate taxiways A, D, E, and F.

Construct engine run-up apron.

Rehabilitate taxiway lighting.

Install runway end identifier lights on runway 35.

Rehabilitate taxiway F.

Rehabilitate aprons.

Construct building.

Decision Date: June 22, 2004.

For Further Information Contact: G. Thomas Wade, Southwest Region Airports Division, (817) 222-5613.

Public Agency: Raleigh-Durham Airport Authority, Raleigh, North Carolina.

Application Number: 04-02-C-00-RDU.

Application Type: Impose and use a PFC.

PFC Level: $4.50.

Total PFC Revenue Approved in This Decision: $595,223,253.

Earliest Charge Effective Date: September 1, 2008.

Estimated Charge Expiration Date: July 1, 2032.

Classes of Air Carriers Not Required to Collect PFC's: Non-scheduled/on-demand air carriers.

Determination: Approved. Based on information contained in the public agency's application, the FAA has determined that the proposed class accounts for less than 1 percent of the total annual enplanements at Raleigh-Durham International Airport.

Brief Description of Project Approved for Collection and Use at a $4.50 Level: Terminal C renovation and expansion.

Brief Description of Project Approved for Collection and Use at a $3.00 Level: PFC application development.

Decision Date: June 25, 2004.

For Further Information Contact: Tracie D. Kleine, Atlanta Airports District Office, (404) 305-7148.

Public Agency: Chautauqua County, Jamestown, New York.

Application Number: 04-04-C-00-JHW.

Application Type: Impose and use a PFC.

PFC Level: $4.50.

Total PFC Revenue Approved in This Decision: $200,112.

Earliest Charge Effective Date: September 1, 2004.

Estimated Charge Expiration Date: July 1, 2009.

Classes of Air Carriers Not Required to Collect PFC's: Nonscheduled/on-demand air carriers filing FAA Form 1800-31.

Determination: Approved. Based on information contained in the public agency's application, the FAA has determined that the proposed class accounts for less than 1 percent of the total annual enplanements at Chautauqua County/Jamestown Airport.

Brief Description of Projects Approved for Collection and Use:

Runway 7/25 lighting rehabilitation.

Rehabilitate general aviation apron.

Security improvements.

Runway 13/31 partial parallel taxiway.

Preparation of PFC application.

Decision Date: June 30, 2004

For Further Information Contact: Philip Brito, New York Airports District Office, (516) 227-3800.

Public Agency: Monroe County, Rochester, New York.

Application Number: 04-03-C-00-ROC.

Application Type: Impose and use a PFC.

PFC Level: $4.50.

Total PFC Revenue Approved in This Decision: $40,310,360.

Earliest Charge Effective Date: September 1, 2004.

Estimated Charge Expiration Date: September 1, 2013.

Classes of Air Carriers Not Required to Collect PFC's: None.

Brief Description of Projects Approved for Collection and Use:

Terminal modifications for baggage screening.

Aircraft rescue and firefighting equipment.

Snow removal equipment.

Taxiway A construction.

Terminal improvements.

Decision Date: June 30, 2004.

For Further Information Contact: Philip Brito, New York Airports District Office, (516) 227-3800.

Amendments to PFC Approvals

Amendment No./city, state | Amendment approved date | Original approved net PFC revenue | Amended approved net PFC revenue | Original estimated charge exp. date | Amended estimated charge exp. date
03-07-C-01-RNO, Reno, NV | 05/27/04 | $16,866,097 | $9,526,597 | 11/01/05 | 12/01/04
*92-01-I-03-MAF, Midland, TX | 06/03/04 | 35,873,495 | 35,873,495 | 07/01/16 | 05/01/16
94-02-U-02-MAF, Midland, TX | 06/03/04 | NA | NA | 07/01/16 | 05/01/16
01-03-C-03-LFT, Lafayette, LA | 06/04/04 | 2,668,000 | 2,973,702 | 07/01/04 | 01/01/05
97-03-C-04-DTW, Detroit, MI | 06/07/04 | 54,967,000 | 54,967,000 | 10/01/29 | 02/01/27
00-04-C-01-DTW, Detroit, MI | 06/07/04 | 203,207,000 | 213,340,000 | 10/01/31 | 09/01/29
93-01-C-07-IAD, Chantilly, VA | 06/23/04 | 225,967,400 | 221,916,682 | 01/01/04 | 04/01/04
98-02-C-01-ROC, Rochester, NY | 06/30/04 | 10,778,889 | 11,078,889 | 08/01/04 | 09/01/04
Note: The amendment denoted by an asterisk (*) includes a change to the PFC level charged from $3.00 per enplaned passenger to $4.50 per enplaned passenger. For Midland, TX, this change is effective on September 1, 2004.

Issued in Washington, DC, on August 3, 2004.
JoAnn Horne,
Manager, Financial Analysis and Passenger Facility Charge Branch.

[FR Doc. 04-18201 Filed 8-9-04; 8:45 am]

BILLING CODE 4910-13-M